DEPARTMENT OF AGRICULTURE

Foreign Agriculture Service

Notice of Termination of the Trade Leads Polling Service and Removal of Trade Leads From the Internet

AGENCY: Foreign Agricultural Service, USDA.

ACTION: Notice and request for comments.

SUMMARY: This notice provides details of changes that will affect the distribution of Trade Leads to U.S. exporters of food, agricultural, seafood and forest products.

DATES: Effective date of changes being implemented is December 16, 2002. Comments on this notice must be received by 45 days from date of publication in the Federal Register to be assured of consideration.

REQUESTS FOR COMMENTS: Send comments regarding the proposed changes to the AgExport Services Division of the Foreign Agricultural Service (FAS). These changes pertain to the distribution of Trade Leads via e-mail and the Fax Broadcast medium. Comments should be sent to Dan Berman, Director, Ag Export Services Division, Commodity and Marketing Programs, Foreign Agricultural Service, U.S. Department of Agriculture, 1400 Independence Avenue, SW., Stop 1052, Washington, DC 20250-1052. All written comments received will be available for public inspection at the above address Monday thru Friday between 8 a.m. to 5 p.m. Phone (202) 720-6343, Fax: (202) 690-0193.

SUPPLEMENTARY INFORMATION: Title: Trade Leads Distribution.

The Trade Leads program has served as an effective tool to expand U.S. agricultural exports by helping U.S. companies sell their products outside of the United States. FAS overseas offices collect the Trade Lead notices. Trade Leads provide detailed information on U.S. products that are being sought by foreign buyers. The leads are forwarded to the AgConnections office of the AgExport Services Division. After editing the leads, they are disseminated using the Internet, Fax Polling, by e-mail to qualified exporters, and to U.S. multiplier groups. These leads are offered to both new and experienced exporters.

AgExport Services Division is proposing to change how Trade Leads are to be disseminated in the future. Following the suggestions and comments by many of the FAS overseas offices, FAS will discontinue distribution of Trade Leads by the fax polling method and through the Internet. Written notice will be provided to all individuals and companies that currently access leads through either of these methods. The notice will include instructions on how to obtain the information after the service is discontinued. AgExport Services Division will continue to distribute leads to FAS multiplier groups with no interruption in service. Changing FAS dissemination methods will give qualified U.S. exporters of agricultural, food, seafood and forest products priority and immediate access to export sales opportunities from foreign buyers that are seeking U.S. products.

FAS will collect e-mail addresses from exporters that wish to receive this information. As an alternative for those companies that do not currently have an e-mail address, AgExport Services Division will ascertain a fax number for dissemination purposes. Only U.S. companies will be eligible to receive daily Trade Leads inquiries. All comments to this notice will become a matter of public record.

A. Ellen Terpstra,
Administrator, Foreign Agricultural Service.

[FR Doc. 02-26400 Filed 10-16-02; 8:45 am]

BILLING CODE 3410-10-M